SMALL BUSINESS ADMINISTRATION

[Disaster Declaration #20778 and #20779; FLORIDA Disaster Number FL-20016]

Presidential Declaration Amendment of a Major Disaster for Public Assistance Only for the State of Florida

AGENCY: U.S. Small Business Administration.

ACTION: Amendment 2.

SUMMARY: This is an amendment of the Presidential declaration of a major disaster for Public Assistance Only for the State of Florida (FEMA-4834-DR), dated October 16, 2024.

Incident: Hurricane Milton.

DATES: Issued on November 4, 2024.

Incident Period: October 5, 2024 through November 2, 2024.

Physical Loan Application Deadline Date: December 16, 2024.

Economic Injury (EIDL) Loan Application Deadline Date: July 16, 2025.

ADDRESSES: Visit the MySBA Loan Portal at https://lending.sba.gov to apply for a disaster assistance loan.

FOR FURTHER INFORMATION CONTACT: Alan Escobar, Office of Disaster Recovery & Resilience, U.S. Small Business Administration, 409 3rd Street SW, Suite 6050, Washington, DC 20416, (202) 205-6734.

SUPPLEMENTARY INFORMATION: The notice of the President's major disaster declaration for Private Non-Profit organizations in the State of Florida, dated October 16, 2024 is hereby amended to update the incident period for this disaster as beginning October 5, 2024 and continuing through November 2, 2024.

All other information in the original declaration remains unchanged.

(Catalog of Federal Domestic Assistance Number 59008)

Alejandro Contreras,
Acting Deputy Associate Administrator, Office of Disaster Recovery & Resilience.

[FR Doc. 2024-26038 Filed 11-7-24; 8:45 am]

BILLING CODE 8026-09-P